DEPARTMENT OF HEALTH AND HUMAN SERVICES

[Document Identifier: OS-0990-new]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before October 1, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Components Study of REAL Essential Curriculum.

Type of Collection: New.

OMB No. 0990-NEW—Office of Population Affairs—OASH—OS.

Abstract: The Office of Population Affairs (OPA), U.S. Department of Health and Human Services (HHS) is requesting 3 years of approval by OMB on a new collection. The Components Study of REAL Essential Curriculum will identify the components that matter the most for promoting positive health behaviors and outcomes among adolescents. The study will examine program components (for example, content and dosage), implementation components (for example, attendance and engagement), and contextual components (for example, participant characteristics) to determine which components influence participant outcomes the most. In addition, the study will measure youth engagement in programming from various perspectives and examine the role of engagement as a mediating factor to achieving youth outcomes. Sites participating in the study will use the REAL Essentials Advance (REA) relationship curriculum, a popular program among federal pregnancy prevention grantees. The study will enroll schools from spring to fall 2022 (and possibly spring 2023, if necessary). The study will collect youth surveys at baseline, at program exit, and 6 months following the completion of the program. The study will also collect extensive implementation data, which includes youth engagement exit ticket surveys after REA sessions, focus groups with youth, program facilitator logs, and attendance records. Study staff will also interview facilitators and site leadership.

Estimated Annualized Burden Table
Type of respondent | Number of respondents | Number responses per respondent | Average burden per response (in hours) | Total burden hours
Youth outcome survey | 498 | 3 | 40/60 | 996
Youth-focus groups | 133 | 1 | 90/60 | 200
Youth-engagement exit ticket | 533 | 12 | 2/60 | 213
Program Facilitators—Fidelity log | 13 | 24 | 10/60 | 52
Program Facilitators—interview topic guide | 5 | 2 | 1 | 10
District/School/CBO leadership- interview topic guide | 11 | 2 | 45/60 | 17
Total | 1193 | 44 |  | 1488

Sherrette A. Funn,
Paperwork Reduction Act Reports Clearance Officer, Office of the Secretary.

[FR Doc. 2021-18886 Filed 8-31-21; 8:45 am]

BILLING CODE 4150-25-P